ENVIRONMENTAL PROTECTION AGENCY

[EPA-HQ-OPP-2025-2863; FRL-5992-03-OCSPP]

Pesticides; Draft Guidance for Pesticide Registrants on Notifications, Non-Notifications, and Minor Formulation Amendments

AGENCY: Environmental Protection Agency (EPA).

ACTION: Notice of availability.

SUMMARY: The Environmental Protection Agency (EPA or Agency) is announcing the availability of and seeking public comment on a draft Pesticide Registration Notice (PR Notice) entitled “Pesticide Registration (PR) Notice 2026-NEW: Notifications, Non-Notifications, and Minor Formulation Amendments.” PR Notices are issued by the Office of Pesticide Programs (OPP) to inform pesticide registrants and other interested persons about important policies, procedures, and registration related decisions, and serve to provide guidance to pesticide registrants and OPP personnel. This draft PR Notice, when final, will supersede PR Notice 98-10, entitled “Notifications, Non-notifications and Minor Formulation Amendments” dated October 22, 1998, in its entirety. In addition, the guidance in this draft PR Notice allowing for additions, modifications, or deletions of mandatory or advisory statements will supersede the contrary guidance in section II of PR Notice 2000-5, dated May 10, 2000, that requires such changes be submitted by amendment. EPA believes these changes align with Pillar 1 (“Clean Air, Land, and Water for Every American”) and Pillar 3 (“Permitting Reform”) of the five pillars underpinning the Administrator's “Powering the Great American Comeback” initiative as these changes will improve submissions and save registrants and OPP time and resources, while maintaining full protection of human health and the environment.

DATES: Comments must be received on or before February 19, 2026.

ADDRESSES: Submit your comments, identified by docket identification (ID) number EPA-HQ-OPP-2025-2863, online at https://www.regulations.gov. Follow the online instructions for submitting comments. Do not submit electronically any information you consider to be Confidential Business Information (CBI) or other information whose disclosure is restricted by statute. Additional instructions on commenting or visiting the docket, along with information about dockets generally, is available at https://www.epa.gov/dockets.

FOR FURTHER INFORMATION CONTACT: Alexandra Boukedes, Registration Division (7505T), Office of Pesticide Programs, Environmental Protection Agency, 1200 Pennsylvania Ave. NW, Washington, DC 20460-0001; telephone number: (202) 566-1511; email address: boukedes.alexandra@epa.gov.

SUPPLEMENTARY INFORMATION:

I. General Information

A. Does this action apply to me?

This action is directed to the public in general. Although this action may be of particular interest to applicants seeking to amend their pesticide registration. Since other entities may also be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

C. How can I get copies of this document and other related information?

A copy of the draft PR notice is available in the docket under docket identification (ID) number EPA-HQ-OPP-2025-2863.

II. What guidance does this PR Notice provide?

This draft PR Notice provides updated guidance to registrants and applicants (both of which are referred to in this notice as “registrants”) concerning the process for notifications, non-notifications and minor formulation amendments. This proposed notice updates and clarifies the scope of changes accepted by notification, non-notification and minor formulation amendment for all pesticide products. This PR Notice, when final, will supersede PR Notice 98-10, entitled “Notification, Non-notification, Minor Formulation Amendments” dated October 22, 1998, in its entirety. In addition, the guidance in this draft PR Notice allowing for additions, modifications, or deletions of mandatory or advisory statements will supersede the contrary guidance in section II of PR Notice 2000-5, dated May 10, 2000, that requires such changes be submitted by amendment.

The changes in procedure presented in this draft PR Notice are updates to clarify the scope of all registration changes accepted by notification, non-notification, and minor formation amendment for all pesticide products. The draft PR Notice adds several new minor modifications, moves some existing minor modifications to a more streamlined process (e.g., from notification to non-notification), and provides more details in the minor modification and process descriptions to enhance clarity. For example, a new minor modification in the draft PR Notice includes the use of placeholder text for certain symbols, pictures, logos, and graphics, including distributor product logos, which can be added to the master label via notification and then, once the placeholder text is on the stamped master label, the actual symbols, pictures, logos, or graphics can be added to the master label via non-notification. These changes will help reduce the burden associated with completing, submitting and processing these applications for both pesticide registrants and the Agency and provide improved efficiencies without the extra burden.

EPA is particularly interested in receiving feedback on the following proposed changes in the draft PR Notice: updated requirements under Section II.E, which refers to symbols, pictures, logos, and graphics or placeholder text for symbols, pictures, logos, and graphics being added to the master label by notification; use of a placeholder for adding state-required fertilizer restrictions; specific 100% repack product label revisions; the addition of referral statements and marketing claims; and changes to sources for certain inert ingredients, addition of certain product packaging graphics and statements, changes in state registration status, changes in warranty statement, and adjustments to certain Endangered Species Act (ESA)-related labeling language that are now being proposed to be made via non-notification.

III. Do PR Notices contain binding requirements?

No, the draft PR Notice discussed in this document is intended to provide guidance to EPA personnel and decision makers and to pesticide registrants. While the requirements in the statutes and Agency regulations are binding on EPA and the applicants, this PR Notice, when final would not be binding on either EPA or pesticide registrants, and EPA may depart from the guidance where circumstances warrant and without prior notice. Likewise, pesticide registrants may assert that the guidance is not appropriate generally or not applicable to a specific pesticide or situation.

IV. Statutory and Executive Order Reviews

Additional information about these statutes and Executive Orders can be found at https://www.epa.gov/laws-regulations/laws-and-executive-orders.

A. Executive Order 12866: Regulatory Planning and Review and Executive Order 13563: Improving Regulation and Regulatory Review

This action is not a significant regulatory action under Executive Order 12866 (58 FR 51735; October 4, 1993) and was therefore not submitted to the Office of Management and Budget (OMB) for review under Executive Orders 12866 and 13563 (76 FR 3821, January 21, 2011).

B. Paperwork Reduction Act (PRA)

This guidance does not create any paperwork burdens that require additional approval by OMB under the PRA, 44 U.S.C. 3501 et seq. The information collection activities associated with pesticide registration are already approved by OMB under OMB Control No. 2070-0226, entitled “Consolidated Pesticide Registration Submission Portal” (EPA ICR No. 2624).

(Authority: 7 U.S.C. 136 et seq.)

Dated: December 30, 2025.
Nancy B. Beck,
Principal Deputy Assistant Administrator, Office of Chemical Safety and Pollution Prevention.

[FR Doc. 2025-24238 Filed 1-2-26; 8:45 am]

BILLING CODE 6560-50-P